DEPARTMENT OF HOMELAND SECURITY

Office of the Secretary

[Docket No. DHS-2009-0089]

Privacy Act of 1974; Department of Homeland Security—028 Complaint Tracking System of Records

AGENCY: Privacy Office, DHS.

ACTION: Notice of Privacy Act system of records.

SUMMARY: In accordance with the Privacy Act of 1974, the Department of Homeland Security proposes to establish a new Department of Homeland Security system of records notice titled, DHS/ALL-028 Complaint Tracking System. Complaint Tracking System is a correspondence workflow management system that assists the DHS Privacy Office in responding to complaints, comments and requests for redress from the public, other government agencies, and the private sector. Complaint Tracking System provides the capacity to handle correspondence that requires analysis, storage, categorization, and response from DHS Privacy Office personnel. It allows users to manage correspondence tracking with pre-defined routing inside workflow templates. This newly established system will be included in the Department of Homeland Security's inventory of record systems.

DATES: Written comments must be submitted on or before August 20, 2009. The established system of records will be effective August 20, 2009.

ADDRESSES: You may submit comments, identified by docket number DHS-2009-0089 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions and privacy issues, please contact: Mary Ellen Callahan, (703-235-0780), Chief Privacy Officer, Privacy Office, U.S. Department of Homeland Security, Washington, DC 20528.

SUPPLEMENTARY INFORMATION:

I. Background

The Department of Homeland Security (DHS) is establishing a new system of records pursuant to the Privacy Act of 1974 (5 U.S.C. 552a), entitled the Complaint Tracking System (CTS). The Privacy Office conducted this SORN because CTS is a group of records under the control of DHS that is retrieved by the name of an individual or other identifier particular to the individual.

In accordance with its statutory responsibilities, the DHS Privacy Office receives numerous complaints, comments, and requests for redress of privacy issues throughout the year. This correspondence requires analysis, storage, categorization, and coordinated responses. The CTS is a workflow system that Privacy Office personnel utilize to respond efficiently to inquiries from the public and other government and private-sector agencies. CTS allows users to manage correspondence tracking with pre-defined routing inside workflow templates.

Consistent with DHS's information sharing mission, information stored in the CTS may be shared with other DHS components, as well as appropriate Federal, State, local, tribal, foreign, or international government agencies. This sharing will take place only after DHS determines that the receiving component or agency has a need to know the information to carry out national security, law enforcement, immigration, intelligence, or other functions consistent with the routine uses set forth in this system of records notice.

In accordance with the Privacy Act of 1974, the Department of Homeland Security proposes to establish a new Department of Homeland Security system of records notice titled, DHS/ALL-028 Complaint Tracking System. Complaint Tracking System is a correspondence workflow management system that assists the DHS Privacy Office in responding to complaints, comments and requests for redress from the public, other government agencies, and the private sector. Complaint Tracking System provides the capacity to handle correspondence that requires analysis, storage, categorization, and response from DHS Privacy Office personnel. It allows users to manage correspondence tracking with pre-defined routing inside workflow templates. This newly established system will be included in the Department of Homeland Security's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses to their records are put, and to assist individuals to more easily find such files within the agency. Below is the description of the Complaint Tracking System of Records.

In accordance with 5 U.S.C. 552a(r), DHS has provided a report of this system of records to the Office of Management and Budget and to Congress.

System of Records:

DHS/ALL-028

System name:

Department of Homeland Security Complaint Tracking System.

Security classification:

Unclassified.

System location:

Records are maintained at the DHS Data Center in Washington, DC and at a limited number of remote locations where DHS components or programs maintain secure facilities and conduct the mission of DHS.

Categories of individuals covered by the system:

A. All individuals who submit information through the DHS CTS.

B. All individuals whose records have been referred to a DHS component or program redress process by other components, programs, or agencies in connection with DHS CTS.

C. Attorneys or other persons representing individuals submitting such requests and appeals and individuals who are the subjects of such requests.

D. DHS personnel or contractors assigned to handle such requests or appeals.

Categories of records in the system:

A. Individual's name; prefix, suffix, or title; date of birth; gender; social security number; country of origin; organization; contact information; phone number; fax number; e-mail address; address; application information, including the date of request and a description of the circumstances that led to the request of the redress form; passport number; appropriate immigration documents; documents used to support application for entry; correspondence from individuals regarding their redress requests; records of contacts made by or on behalf of individuals; documents submitted to verify identity or otherwise support the request for redress; and any other document relevant and appropriate to the particular complaint.

B. For those issuing complaints as representatives of affected individuals, representative name, contact information, phone number, e-mail address, relationship to the affected individuals, and power of attorney.

C. The name of the DHS component, DHS program, or other Federal agency, which will be responsible for addressing the incoming complaint as well as supporting components or agencies.

D. Administrative and contact information concerning DHS employees, contractors, or other agency representatives associated with the processing and/or adjudication of requests submitted to the complaint process.

E. Appropriate information to reflect the resolution of a particular complaint, information determined during adjudication of the case, and sensitive information relevant to the complaint for the individual.

Authority for maintenance of the system:

The collection of documents within CTS is governed by 5 U.S.C. 301 (general agency powers for recordkeeping), the Privacy Act of 1974, as amended (5 U.S.C. 552a), and 6 U.S.C. 142 (providing for appointment of a Privacy Officer to assure, in part, that personal information contained in Privacy Act system of records is handled in full compliance with fair information practices).

Purpose(s):

The purpose of this system is to assist the Privacy Office in responding to complaints, comments and requests for redress from the public, other government agencies, and the private sector.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other Federal agency conducting litigation or in proceedings before any court, adjudicative or administrative body, when:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To a Federal, State, tribal, local, international, or foreign government agency or entity for the purpose of consulting with that agency or entity: (1) To assist in making a determination regarding redress for an individual in connection with the operations of a DHS component or program; (2) for the purpose of verifying the identity of an individual seeking redress in connection with the operations of a DHS component or program; or (3) for the purpose of verifying the accuracy of information submitted by an individual who has requested such redress on behalf of another individual.

I. To an authorized appeal or grievance examiner, formal complaints examiner, equal employment opportunity investigator, arbitrator, or other duly authorized official engaged in investigation or settlement of a grievance, complaint, or appeal filed by an employee.

J. To appropriate agencies, entities, and persons when: (1) It is suspected or confirmed that the security or confidentiality of information in the System of Records has been compromised; (2) DHS has determined that, as a result of the suspected or confirmed compromise, there is a risk of harm to economic or property interests, identity theft or fraud, or harm to the security or integrity of this system or other systems or programs (whether maintained by DHS or another agency or entity) that rely upon the compromised information; and (3) the disclosure is made to such agencies, entities, and persons who are reasonably necessary to assist in connection with the DHS's efforts to respond to the suspected or confirmed compromise and prevent, minimize, or remedy such harm.

K. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities. Electronic records are stored on magnetic disc, tape, and digital media.

Retrievability:

Data are retrievable by the individual's name or other identifier, such as case number, as well as non-identifying information.

Safeguards:

Information in this system is safeguarded in accordance with applicable laws, rules, and policies, including the DHS Information Technology Security Program Handbook. The CTS security protocols will meet applicable NIST Security Standards, from Authentication to Certification and Accreditation. Records in the system will be maintained in a secure, password-protected electronic system that will utilize security hardware and software to include multiple firewalls, active intruder detection, and role-based access controls. All records are protected from unauthorized access through appropriate administrative, physical, and technical safeguards. These safeguards include restricting access to authorized personnel who have a need-to-know, using locks, and password protection identification features. DHS file areas are locked after normal duty hours and the facilities are protected from the outside by security personnel.

Retention and disposal:

CTS handles both information collected directly from the individual and information collected from DHS components and other agencies. DHS is working on a retention schedule with its Senior Records Officer for information collected directly from the individual. It is anticipated that the retention period for these records will be up to seven years. To the extent information is collected from other systems, data is retained in accordance with the record retention requirements of those systems.

System Manager and address:

The System Manager is the Program Manager, DHS CTS, U.S. Department of Homeland Security, Washington, DC 20528.

Notification procedure:

Individuals seeking notification of and access to any record contained in this system of records, or seeking to contest its content, may submit a request in writing to the Headquarters or component's FOIA Officer, whose contact information can be found at http://www.dhs.gov/foia under “contacts.” If an individual believes more than one component maintains Privacy Act records concerning him or her, the individual may submit the request to Chief Privacy Officer, Department of Homeland Security, Washington, DC 20528.

When seeking records about yourself from this system of records or any other Departmental system of records, your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov/foia or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Any person, including citizens and representatives of Federal, State or local governments; businesses; and industries. Any Federal system with records appropriate and relevant to the redress process, including the Intranet Quorum system.

Exemptions claimed for the system:

No exemption shall be asserted with respect to information submitted by and collected from the individual or the individual's representative in the course of any redress process associated with this System of Records.

This system, however, may contain records or information recompiled from or created from information contained in other systems of records, which are exempt from certain provisions of the Privacy Act. For these records or information only, in accordance with 5 U.S.C. 552a(j)(2), (k)(1), (k)(2), and (k)(5), DHS will also claim the original exemption for these records or information from subsections (c)(3) and (4); (d)(1), (2), (3), and (4); (e)(1), (2), (3), (4)(G) through (I), (5), and (8); (f); and (g) of the Privacy Act of 1974, as amended, as necessary and appropriate to protect such information. Such exempt records or information may be law enforcement or national security investigation records, law enforcement activity and encounter records, or terrorist screening records.

These records could come from various DHS systems, such as the Treasury Enforcement Communications System (TECS) and the Transportation Security Information System (TSIS), or from third agency systems. DHS, after conferring with the appropriate component or agency, may waive applicable exemptions in appropriate circumstances and where it would not appear to interfere with or adversely affect the law enforcement or national security purposes of the systems from which the information is recompiled or in which it is contained. As required under the Privacy Act, DHS will issue a rule to describe more fully the needs and requirements for taking such exemptions on such information.

Dated: July 14, 2009.
Mary Ellen Callahan,
Chief Privacy Officer, Department of Homeland Security.

[FR Doc. E9-17320 Filed 7-20-09; 8:45 am]

BILLING CODE 9110-9L-P